Memorandum of June 2, 2020

Providing Continued Federal Support for Governors' Use of the National Guard To Respond to COVID-19 and To Facilitate Economic Recovery

Memorandum for the Secretary of Defense [and] the Secretary of Homeland Security

By the authority vested in me as President by the Constitution and the laws of the United States of America, including the Robert T. Stafford Disaster Relief and Emergency Assistance Act, 42 U.S.C. 5121-5207 (the “Stafford Act”), and section 502 of title 32, United States Code, it is hereby ordered as follows:

Section 1. Policy. It continues to be the policy of the United States to foster close cooperation and mutual assistance between the Federal Government and the States and territories in the battle against the threat posed by the spread of COVID-19, especially as the United States transitions to a period of increased economic activity and recovery in those areas of the Nation where the threat posed by COVID-19 has been sufficiently mitigated. To date, activated National Guard forces around the country have provided critical support to Governors as the Governors work to address the needs of those populations within their respective States and territories especially vulnerable to the effects of COVID-19, including those in nursing homes, assisted living facilities, and other long-term care or congregate settings. This need to focus efforts to protect especially vulnerable populations from the threat posed by COVID-19 will persist. Therefore, to continue to provide maximum support to the States and territories as they make decisions about the responses required to address local conditions in their respective jurisdictions with respect to combatting the threat posed by COVID-19 and, where appropriate, facilitating their economic recovery, I am taking the actions set forth in section 2 of this memorandum:

Sec. 2. Termination and Extension. The 100 percent Federal cost share for the States' and territories' use of National Guard forces authorized pursuant to my prior memoranda dated March 22, 28, and 30, 2020, and April 2, 7, and 13, 2020, each titled “Providing Federal Support for Governors' Use of the National Guard to Respond to COVID-19,” and my prior memoranda dated April 20 and 28, 2020, and May 8 and 20, 2020, each titled “Providing Continued Federal Support for Governors' Use of the National Guard to Respond to COVID-19 and to Facilitate Economic Recovery,” shall extend to, and shall be available for orders of any length authorizing duty through August 21, 2020. Such orders include duty necessary to comply with health protection protocols recommended by the Centers for Disease Control and Prevention of the Department of Health and Human Services or other health protection measures agreed to by the Department of Defense and the Federal Emergency Management Agency of the Department of Homeland Security.

Sec. 3. General Provisions. (a) Nothing in this memorandum shall be construed to impair or otherwise affect:

(i) the authority granted by law to an executive department or agency, or the head thereof; or

(ii) the functions of the Director of the Office of Management and Budget relating to budgetary, administrative, or legislative proposals.

(b) This memorandum shall be implemented consistent with applicable law and subject to the availability of appropriations.

(c) This memorandum is not intended to, and does not, create any right or benefit, substantive or procedural, enforceable at law or in equity by any party against the United States, its departments, agencies, or entities, its officers, employees, or agents, or any other person.

(d) The Secretary of Defense is authorized and directed to publish this memorandum in the Federal Register.

THE WHITE HOUSE,

Washington, June 2, 2020

[FR Doc. 2020-12431

Filed 6-4-20; 11:15 am]

Billing code 3295-F0-P